DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 30, 2019. Address written comments to Statutory Import Programs Staff, Room 3720, U.S. Department of Commerce, Washington, DC 20230. Applications may be examined between 8:30 a.m. and 5:00 p.m. at the U.S. Department of Commerce in Room 3720.

Docket Number: 19-011. Applicant: University of Chicago Argonne LLC, Operator of Argonne National Laboratory, 9700 South Cass Avenue, Lemont, IL 60439-4873. Instrument: Q1 magnets. Manufacturer: Danfysik A/S, Denmark. Intended Use: According to the applicant, the instrument is a component of a 4th generation synchrotron accelerator, i.e., the Advanced Photon Source Upgrade (APSU) accelerator, which is one of the most technologically complex machines in the world. APSU is a non-profit research facility that will provide ultra-bright, high-energy x-ray beams to more than 5000 (and growing) scientists from across the United States. APSU provides x-ray beams of a broad parameters that allows scientists to collect data in unprecedented detail and in short time frames. The research results users achieve through APS constantly make real and positive impact on our technologies, health, economy, and fundamental understandings of the materials that make up our world.

Justification for Duty-Free Entry: There are no instruments of the same general category manufactured in the United States. Application accepted by Commissioner of Customs: November 20, 2019.

Docket Number: 19-014. Applicant: University of Chicago Argonne LLC, Operator of Argonne National Laboratory, 9700 South Cass Avenue, Lemont, IL 60439-4873. Instrument: Q2 magnets. Manufacturer: SigmaPhi, France. Intended Use: According to the applicant, the instrument is a component of a 4th generation synchrotron accelerator, i.e., the Advanced Photon Source Upgrade (APSU) which will be used to study ultra-bright, high-energy x-ray beams to more than 5000 (and growing) scientists from across the United States. APSU provides x-ray beams of a broad parameters that allow scientists to collect data in unprecedented detail and in amazingly short time frames. The research results our users achieved through APS constantly make real and positive impact on our technologies, health, economy, and fundamental understandings of the materials that make up our world. Justification for Duty-Free Entry: There are no instruments of the same general category manufactured in the United States. Application accepted by Commissioner of Customs: November 2, 2017.

Dated: December 3, 2019.
Gregory W. Campbell,
Director, Subsidies Enforcement, Enforcement and Compliance.

[FR Doc. 2019-26458 Filed 12-6-19; 8:45 am]

BILLING CODE 3510-DS-P